DEPARTMENT OF HEALTH AND HUMAN SERVICES

Food and Drug Administration

[Docket No. FDA-2004-N-0193]

Agency Information Collection Activities: Proposed Collection; Comment Request; Current Good Manufacturing Practice Regulations for Medicated Feeds

AGENCY: Food and Drug Administration, HHS.

ACTION: Notice.

SUMMARY: The Food and Drug Administration (FDA) is announcing an opportunity for public comment on the proposed collection of certain information by the Agency. Under the Paperwork Reduction Act of 1995 (the PRA), Federal Agencies are required to publish notice in the Federal Register concerning each proposed collection of information, including each proposed extension of an existing collection of information, and to allow 60 days for public comment in response to the notice. This notice solicits comments on the recordkeeping requirements for manufacturers of medicated animal feeds.

DATES: Submit either electronic or written comments on the collection of information by June 6, 2014.

ADDRESSES: Submit electronic comments on the collection of information to http://www.regulations.gov. Submit written comments on the collection of information to the Division of Dockets Management (HFA-305), Food and Drug Administration, 5630 Fishers Lane, Rm. 1061, Rockville, MD 20852. All comments should be identified with the docket number found in brackets in the heading of this document.

FOR FURTHER INFORMATION CONTACT: FDA PRA Staff, Office of Operations, Food and Drug Administration, 1350 Piccard Dr., PI50-400B, Rockville, MD 20850, PRAStaff@fda.hhs.gov.

SUPPLEMENTARY INFORMATION: Under the PRA (44 U.S.C. 3501-3520), Federal Agencies must obtain approval from the Office of Management and Budget (OMB) for each collection of information they conduct or sponsor. “Collection of information” is defined in 44 U.S.C. 3502(3) and 5 CFR 1320.3(c) and includes Agency requests or requirements that members of the public submit reports, keep records, or provide information to a third party. Section 3506(c)(2)(A) of the PRA (44 U.S.C. 3506(c)(2)(A)) requires Federal Agencies to provide a 60-day notice in the Federal Register concerning each proposed collection of information, including each proposed extension of an existing collection of information, before submitting the collection to OMB for approval. To comply with this requirement, FDA is publishing notice of the proposed collection of information set forth in this document.

With respect to the following collection of information, FDA invites comments on these topics: (1) Whether the proposed collection of information is necessary for the proper performance of FDA's functions, including whether the information will have practical utility; (2) the accuracy of FDA's estimate of the burden of the proposed collection of information, including the validity of the methodology and assumptions used; (3) ways to enhance the quality, utility, and clarity of the information to be collected; and (4) ways to minimize the burden of the collection of information on respondents, including through the use of automated collection techniques, when appropriate, and other forms of information technology.

Current Good Manufacturing Practice Regulations for Medicated Feeds—21 CFR Part 225 (OMB Control Number 0910-0152)—Extension

Under section 501 of the Federal Food, Drug, and Cosmetic Act (the FD&C Act) (21 U.S.C. 351), FDA has the statutory authority to issue current good manufacturing practice (cGMP) regulations for drugs, including medicated feeds. Medicated feeds are administered to animals for the prevention, cure, mitigation, or treatment of disease, or growth promotion and feed efficiency. Statutory requirements for cGMPs have been codified under part 225 (21 CFR part 225). Medicated feeds that are not manufactured in accordance with these regulations are considered adulterated under section 501(a)(2)(B) of the FD&C Act. Under part 225, a manufacturer is required to establish, maintain, and retain records for a medicated feed, including records to document procedures required during the manufacturing process to assure that proper quality control is maintained. Such records would, for example, contain information concerning receipt and inventory of drug components, batch production, laboratory assay results (i.e. batch and stability testing), labels, and product distribution.

This information is needed so that FDA can monitor drug usage and possible misformulation of medicated feeds to investigate violative drug residues in products from treated animals and to investigate product defects when a drug is recalled. In addition, FDA will use the cGMP criteria in part 225 to determine whether or not the systems and procedures used by manufacturers of medicated feeds are adequate to assure that their feeds meet the requirements of the act as to safety and also that they meet their claimed identity, strength, quality, and purity, as required by section 501(a)(2)(B) of the FD&C Act.

A license is required when the manufacturer of a medicated feed involves the use of a drug or drugs that FDA has determined requires more control because of the need for a withdrawal period before slaughter or because of carcinogenic concerns. Conversely, a license is not required and the recordkeeping requirements are less demanding for those medicated feeds for which FDA has determined that the drugs used in their manufacture need less control. Respondents to this collection of information are commercial feed mills and mixer-feeders.

FDA estimates the burden of this collection of information as follows:

Table 1—Estimated Annual Recordkeeping Burden
[Registered licensed commercial feed mills] ¹
21 CFR Section | Number of recordkeepers | Number of records per recordkeeper | Total annual records | Average burden per recordkeeper | Total hours
225.42(b)(5) through (b)(8) | 840 | 260 | 218,400 | 1 | 218,400
225.58(c) and (d) | 840 | 45 | 37,800 | .50 (30 minutes) | 18,900
225.80(b)(2) | 840 | 1,600 | 1,344,000 | .12 (7 minutes) | 161,280
225.102(b)(1) | 840 | 7,800 | 6,552,000 | .08 (5 minutes) | 524,160
225.110(b)(1) and (b)(2) | 840 | 7,800 | 6,552,000 | .015 (1 minute) | 98,280
225.115(b)(1) and (b)(2) | 840 | 5 | 4,200 | .12 (7 minutes) | 504
Total |  |  |  |  | 1,021,524
¹ There are no capital or operating and maintenance costs associated with this collection of information.

Table 2—Estimated Annual Recordkeeping Burden
[Registered licensed mixer-feeders] ¹
21 CFR Section | Number of recordkeepers | Number of records per recordkeeper | Total annual records | Average burden per recordkeeper | Total hours
225.42(b)(5) through (b)(8) | 100 | 260 | 26,000 | .15 (9 minutes) | 3,900
225.58(c) and (d) | 100 | 36 | 3,600 | .50 (30 minutes) | 1,800
225.80(b)(2) | 100 | 48 | 4,800 | .12 (7 minutes) | 576
225.102(b)(1) through (b)(5) | 100 | 260 | 26,000 | .40 (24 minutes) | 10,400
Total |  |  |  |  | 16,676
¹ There are no capital costs or operating and maintenance costs associated with this collection of information.

Table 3—Estimated Annual Recordkeeping Burden
[Nonregistered unlicensed commercial feed mills] ¹
21 CFR Section | Number of recordkeepers | Number of records per recordkeeper | Total annual records | Average burden per recordkeeper | Total hours
225.142 | 4,186 | 4 | 16,744 | 1 | 16,744
225.158 | 4,186 | 1 | 4,186 | 4 | 16,744
225.180 | 4,186 | 96 | 401,856 | .12 (7 minutes) | 48,223
225.202 | 4,186 | 260 | 1,088,360 | .65 (39 minutes) | 707,434
Total |  |  |  |  | 789,145
¹ There are no capital costs or operating and maintenance costs associated with this collection of information.

Table 4—Estimated Annual Recordkeeping Burden
[Nonregistered unlicensed mixer-feeders] ¹
21 CFR Section | Number of recordkeepers | Number of records per recordkeeper | Total annual records | Average burden per recordkeeper | Total hours
225.142 | 3,400 | 4 | 13,600 | 1 | 13,600
225.158 | 3,400 | 1 | 3,400 | 4 | 13,600
225.180 | 3,400 | 32 | 108,800 | .12 (7 minutes) | 13,056
225.202 | 3,400 | 260 | 884,000 | .33 (20 minutes) | 291,720
Total |  |  |  |  | 331,976
¹ There are no capital costs or operating and maintenance costs associated with this collection of information.

The estimate of time required for record preparation and maintenance is based on Agency communications with industry. Other information needed to finally calculate the total burden hours (i.e., number of recordkeepers, number of medicated feeds being manufactured, etc.) is derived from Agency records and experience.

Dated: March 28, 2014.
Leslie Kux,
Assistant Commissioner for Policy.

[FR Doc. 2014-07646 Filed 4-4-14; 8:45 am]

BILLING CODE 4164-01-P